DEPARTMENT OF TRANSPORTATION

Federal Aviation Administration

14 CFR Part 39

[Docket No. FAA-2005-21599; Directorate Identifier 2005-NM-036-AD]

RIN 2120-AA64

Airworthiness Directives; Bombardier Model CL-600-2B19 (Regional Jet Series 100 & 440) Airplanes

AGENCY: Federal Aviation Administration (FAA), Department of Transportation (DOT).

ACTION: Notice of proposed rulemaking (NPRM).

SUMMARY: The FAA proposes to supersede an existing airworthiness directive (AD) that applies to all Bombardier Model CL-600-2B19 series airplanes. The existing AD currently requires revising the Airplane Flight Manual (AFM) to provide the flightcrew with operating limitations and procedures to enable them to maintain controllability of the airplane in the event that aileron control stiffness is encountered during flight. This proposed AD would revise the Airworthiness Limitations section of the Instructions of Continued Airworthiness to incorporate certain repetitive tasks for the aileron control system and would require a briefing to advise flight crews that certain aileron control checks are no longer required. After accomplishing the applicable initial tasks, the existing AFM revisions for the aileron control check may be removed from the AFM. This proposed AD is prompted by the development of terminating actions for the AFM revisions. We are proposing this AD to prevent aileron control stiffness during flight, which could result in reduced or possible loss of controllability of the airplane.

DATES: We must receive comments on this proposed AD by July 22, 2005.

ADDRESSES: Use one of the following addresses to submit comments on this proposed AD.

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Bombardier, Inc., Canadair, Aerospace Group, P.O. Box 6087, Station Centre-ville, Montreal, Quebec H3C 3G9, Canada.

You can examine the contents of this AD docket on the Internet at http://dms.dot.gov, or in person at the Docket Management Facility, U.S. Department of Transportation, 400 Seventh Street SW., room PL-401, on the plaza level of the Nassif Building, Washington, DC. This docket number is FAA-2005-21599; the directorate identifier for this docket is 2005-NM-036-AD.

FOR FURTHER INFORMATION CONTACT: Dan Parillo, Aerospace Engineer, Systems and Flight Test Branch, ANE-172, FAA, New York Aircraft Certification Office, 1600 Stewart Avenue, Westbury, suite 410, New York 11590; telephone (516) 228-7305; fax (516) 794-5531.

SUPPLEMENTARY INFORMATION:

Comments Invited

We invite you to submit any relevant written data, views, or arguments regarding this proposed AD. Send your comments to an address listed under ADDRESSES. Include “Docket No. FAA-2005-21599; Directorate Identifier 2005-NM-036-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

On September 16, 2002, we issued AD 2002-19-07, amendment 39-12887 (67 FR 60117, September 25, 2002), for all Bombardier Model CL-600-2B19 series airplanes. That AD requires revising the Canadair Regional Jet Airplane Flight Manual (AFM) to provide the flightcrew with operating limitations and procedures to enable them to maintain controllability of the airplane in the event that aileron control stiffness is encountered during flight. That AD was prompted by a significant number of reports of aileron control stiffness. We issued that AD to prevent aileron control stiffness during flight, which could result in the reduction or possible loss of controllability of the airplane.

Actions Since Existing AD Was Issued

Since we issued AD 2002-19-07, Transport Canada Civil Aviation (TCCA), which is the airworthiness authority for Canada, issued Canadian airworthiness directive CF-2002-35R2 on January 6, 2005 (CF-2002-35R1, dated August 16, 2002, was referenced in AD 2002-19-07). TCCA mandated the service information described below and a briefing to advise flight crews that aileron control checks are no longer required to ensure the continued airworthiness of the affected airplanes in Canada.

The airplane manufacturer has issued Canadair Regional Jet Temporary Revision (TR) 2B-2068, dated December 13, 2004, which describes, among others, the tasks specified in the following table. Accomplishing the applicable initial tasks eliminates the need for the AFM revisions for the aileron control check required by AD 2002-19-07. The compliance time for the applicable initial tasks range between 1,000 flight hours and 10,500 flight hours.

Table—Affected Task Numbers
Task No. | Description
R22-11-A083-01 | Lubrication of aileron autopilot servo and servo mount engage clutch faces.
R27-00-A053-01 | Replacement of the aileron control pulleys with new or serviceable parts.
R27-11-A082-01 | Lubrication of the aileron control cables at the wing pulley interfaces.
R27-11-A082-02 | Lubrication of the aileron rear quadrant and trim lever bearings.

Accomplishing the actions specified in the service information is intended to adequately address the unsafe condition.

FAA's Determination and Requirements of the Proposed AD

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 2002-19-07. This proposed AD would retain the requirements of the existing AD (i.e., AFM revisions). This proposed AD would also require revising the Airworthiness Limitations (AWL) section of the Instructions of Continued Airworthiness to incorporate certain repetitive tasks for the aileron control system specified in Canadair Regional Jet TR 2B-2068 described previously. After accomplishing the applicable initial tasks, the AFM revisions for the aileron control checks required by AD 2002-19-07 may be removed from the AFM.

Difference Between the Proposed AD and Canadian Airworthiness Directive

Canadian airworthiness directive CF-2002-35R2 mandates revising the AFM by inserting a copy of the changes specified in Canadair Regional Jet TR RJ/142, dated August 16, 2004, into AFM CSP A-012. The TR specifies to delete the aileron control check and procedures covering suspected frozen ailerons, which were incorporated by the AFM revisions required by AD 2002-19-07 (paragraph (g) of this proposed AD). We have determined that the following sentence in paragraph (i) of the proposed AD would accomplish the intent of the Canadian airworthiness directive: “After accomplishing the applicable initial tasks, the AFM revisions required by paragraph (g) of this AD and allowed by paragraph (h) of this AD may be removed from the AFM.” We have coordinated this difference with TCCA.

Clarification of Compliance Times Specified in Service Information

Canadair Regional Jet TR 2B-2068 recommends accomplishing the applicable initial tasks no later than the applicable compliance time “from November 5, 2004.” This proposed AD would require accomplishing the task within the applicable compliance time “after the effective date of this AD.”

Change to Existing AD

This proposed AD would retain all requirements of AD 2002-19-07. Since AD 2002-19-07 was issued, the AD format has been revised, and certain paragraphs have been rearranged. As a result, the corresponding paragraph identifiers have changed in this proposed AD, as listed in the following table:

Revised Paragraph Identifiers
Requirement in AD 2002-19-07 | Corresponding requirement in this proposed AD
Paragraph (a) | Paragraph (f).
Paragraph (b) | Paragraph (g).
Paragraph (c) | Paragraph (h).

Costs of Compliance

The following table provides the estimated costs for U.S. operators to comply with this proposed AD.

Estimated Costs
Action | Work hours | Average labor rate per hour | Parts | Cost per airplane | Number of U.S.-registered airplanes | Fleet cost
AFM revisions (required by AD 2002-19-07) | 1 | $65 | None | $65 | 727 | $47,255
AWL revision (new proposed action) | 1 | 65 | None | 65 | 727 | 47,255

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12887 (67 FR 60117, September 25, 2002) and adding the following new airworthiness directive (AD):

Bombardier, Inc. (Formerly Canadair): Docket No. FAA-2005-21599; Directorate Identifier 2005-NM-036-AD.

Comments Due Date

(a) The Federal Aviation Administration must receive comments on this AD action by July 22, 2005.

Affected ADs

(b) This AD supersedes AD 2002-19-07, amendment 39-12887 (67 FR 60117, September 25, 2002).

Applicability

(c) This AD applies to all Bombardier Model CL-600-2B19 (Regional Jet series 100 & 440) airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (m) of this AD. The request should include a description of changes to the required inspections that will ensure the continued damage tolerance of the affected structure. The FAA has provided guidance for this determination in Advisory Circular (AC) 25-1529.

Unsafe Condition

(d) This AD was prompted by the development of terminating actions for the Airplane Flight Manual (AFM) revisions. We are issuing this AD to prevent aileron control stiffness during flight, which could result in the reduction or possible loss of controllability of the airplane.

Compliance

(e) You are responsible for having the actions required by this AD performed within the compliance times specified, unless the actions have already been done.

Requirements of AD 2002-19-07

AFM Revisions

(f) Within 14 days after October 10, 2002 (the effective date of AD 2002-19-07), insert the procedures for aileron system jams specified in Canadair Regional Jet Temporary Revision (TR) RJ/109-2, dated August 9, 2002, into the Emergency Procedures and Abnormal Procedures Sections, as applicable, of the FAA-approved Canadair Regional Jet AFM.

(g) Upon the accumulation of 5,000 total flight hours, or within 14 days after October 10, 2002, whichever occurs later, insert the procedures for the aileron control check specified in Canadair Regional Jet TR RJ/109-2, dated August 9, 2002, into the Limitations and Normal Procedures Sections, as applicable, of the Canadair Regional Jet AFM.

Note 2: The Limitations and Normal Procedures specified by paragraph (g) of this AD are required to be implemented only when an airplane has accumulated 5,000 total flight hours. However, individual pilots may operate other airplanes that have not yet accumulated 5,000 total flight hours, and that are not subject to those limitations and procedures. Therefore, to avoid any confusion or misunderstanding, it is important that airlines have communication mechanisms in place to ensure that pilots are aware, for each flight, whether the Limitations and Normal Procedures apply.

(h) When the information in Canadair Regional Jet TR RJ/109-2, dated August 9, 2002, of the Canadair Regional Jet AFM, has been incorporated into the FAA-approved general revisions of the AFM, the TR may be removed from the AFM.

New Actions Required by This AD

Revision of Airworthiness Limitations (AWL) Section

(i) Within 60 days after the effective date of this AD, revise the AWL section of the Instructions of Continued Airworthiness by incorporating the tasks specified in Table 1 of this AD and the corresponding “Task Threshold/Interval” of Canadair Regional Jet TR 2B-2068, dated December 13, 2004, into Appendix B—Airworthiness Limitations of Part 2 of Canadair Regional Jet Model CL-600-2B19 Maintenance Requirements Manual. Thereafter, except as provided in paragraph (m) of this AD, no alternative lubrication/replacement intervals may be approved for the aileron control system. After accomplishing the applicable initial tasks, the AFM revisions for the aileron control check required by paragraph (g) of this AD and allowed by paragraph (h) of this AD may be removed from the AFM.

Table 1.—Affected Task Numbers
Task No. | Description
(1) R22-11-A083-01 | Lubrication of aileron autopilot servo and servo mount engage clutch faces.
(2) R27-00-A053-01 | Replacement of aileron control pulleys with new or serviceable parts.
(3) R27-11-A082-01 | Lubrication of the aileron control cables at the wing pulley interfaces.
(4) R27-11-A082-02 | Lubrication of the aileron rear quadrant and trim lever bearings.

(j) For airplanes that have exceeded the task threshold for the new tasks specified in paragraph (i) of this AD as of the effective date of this AD: Do the initial tasks at the applicable “Phase-In” time specified in Canadair Regional Jet TR 2B-2068, dated December 13, 2004; except where the TR specifies accomplishing the task no later than the applicable compliance time “from November 5, 2004,” this AD requires accomplishing the task within the applicable compliance time “after the effective date of this AD.”

(k) When the information in Canadair Regional Jet TR 2B-2068, dated December 13, 2004, is included in the general revisions of the Maintenance Requirements Manual, this TR may be removed.

Flight Crew Briefing

(l) After accomplishing the applicable initial tasks required by paragraph (i) of this AD, brief flight crews that there is no longer a requirement to perform aileron control checks following takeoff from a wet or contaminated runway.

Alternative Methods of Compliance (AMOCs)

(m) The Manager, New York Aircraft Certification Office (ACO), FAA, has the authority to approve AMOCs for this AD, if requested in accordance with the procedures found in 14 CFR 39.19.

Related Information

(n) Canadian airworthiness directive CF-2002-35R2, issued January 6, 2005, also addresses the subject of this AD.

Issued in Renton, Washington, on June 15, 2005.
Kevin Mullin,
Acting Manager, Transport Airplane Directorate, Aircraft Certification Service.

[FR Doc. 05-12298 Filed 6-21-05; 8:45 am]

BILLING CODE 4910-13-P